FEDERAL MARITIME COMMISSION

Ocean Transportation Intermediary License Revocations

The Commission gives notice that the following Ocean Transportation Intermediary licenses have been revoked pursuant to section 19 of the Shipping Act of 1984 (46 U.S.C. 40101) effective on the date shown.

License No.: 011525N.

Name: Equipsa N.V.O.C.C. Inc.

Address: 2105 NW 102nd Avenue, Miami, FL 33172.

Date Revoked: October 5, 2012.

Reason: Voluntary Surrender of License.

License No.: 018156N.

Name: Cargo Alliance Inc.

Address: 583 Monterey Pass Road, Suite C, Monterey Park, CA 91754.

Date Revoked: October 31, 2012.

Reason: Voluntary Surrender of License.

Vern W. Hill,
Director, Bureau of Certification and Licensing.

[FR Doc. 2012-28775 Filed 11-27-12; 8:45 am]

BILLING CODE 6730-01-P